DEPARTMENT OF DEFENSE

Department of the Army

Army Science Board; Notice of Open Meeting

In accordance with section 10(a)(2) of the Federal Advisory Committee Act, (Public Law 92-463), an announcement is made of the following Committee Meeting:

Name of Committee: Army Science Board (ASB).

Date of Meeting: 4-5 December 2000.

Place of Meeting: Hilton Hotel, Crystal City, 2399 Jefferson Davis Highway, Arlington, VA 22202.

Agenda: The ASB will meet for the first of three Plenary Meetings to discuss ongoing studies, plan forthcoming studies and will receive presentations regarding major Army initiatives and issues. These meetings will be open to the public. Any interested person may attend, appear before, or file statements with the committee at the time and in the manner permitted by the committee. For further information, please contact Mike Hendricks at (703) 617-7048.

Wayne Joyner,
Executive Assistant, ASB.

[FR Doc. 00-29974 Filed 11-22-00; 8:45 am]

BILLING CODE 3710-38-M